DEPARTMENT OF HEALTH AND HUMAN SERVICES

National Institutes of Health

Proposed Collection; Comment Request: Young Drivers Intervention Study

SUMMARY: In compliance with the requirement of Section 3506(c)(2)(A) of the Paperwork Reduction Act of 1995, for opportunity for public comment on proposed data collection projects, the National Institute of Child Health and Human Development (NICHD), the National Institutes of Health (NIH) will publish periodic summaries of proposed projects to be submitted to the Office of Management and Budget (OMB) for review and approval.

Proposed Collection

Title: Young Drivers Intervention Study.

Type of Information Collection Request: Revision.

OMB No.: 0925-0467.

Expiration Date: 08/31/2002.

Need and Use of Information Collection: The purposes of this study are (1) to determine the impact of parental actions to monitor and control their adolescents' driving behavior on adolescent driving behavior and motor vehicle crashes, and (2) to test the efficacy of educational persuasive communications in promoting parental restriction of their adolescent's risky driving behavior. The specific questions addressed in this study include: (1) Are parents' perceptions about dangers associated with adolescent driving associated with parental involvement in their adolescent's driving experiences? (2) Is a parent-teen driving agreement an effective way of increasing parental involvement and reducing adolescent risky driving? (3) Does increased parental involvement reduce risky driving behaviors and decrease traffic tickets and crashes among adolescents? A sample of 4000 adolescents and their parents are recruited through department of motor vehicles offices when the teen applies for a learner's permit, randomized to one of two treatment conditions and interviewed by telephone within a few weeks of obtaining a permit and again at licensure, 3-month, 6-months, and 12-months after licensure. Parents are asked about their expectations and parental management practices regarding teen driving. Adolescents are asked about their driving practices, their parents' rules and restrictions regarding driving, and their driving experience. The driving records for each adolescent will be obtained from the state motor vehicle administration and examined at the end of the 24-month period. Parent-teen dyads in Condition #1 receive mailed information about motor vehicle safety. Parents in Condition #2 receive mailed educational newsletters, a videotape, and a model parent-teen driving agreement.

Frequency of Response: On occasion, 2-3 times each year for two years.

Affected Public: Individuals or households.

Type of Respondents: Teenaged children and parents.

The annual reporting burden is as follows:

Estimated number of Respondents: 14134.

Estimated Number of Responses per Respondent: 1.33.

Average Burden Hours Per Response: .50.

Estimated Total Annual Burden Hours Requested: 9399. The annualized cost to respondents is estimated at: $47, 333. There are no capital costs to report. There are no Operating or Maintenance Costs to report.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact: Dr. Bruce Simons-Morton, Chief, Prevention Research Branch, Division of Epidemiology, Statistics, and Prevention Research, National Institute of Child Health and Human Development, Building 6100, 7B05, 9000 Rockville Pike, Bethesda, Maryland, 20892-7510, or call non-toll free number (301) 496-5674 or e-mail your request, including your address to bm79K@nih.gov.

Comments Due Date: Comments regarding this information collection are best assured of having their full effect if received within 60 days of the date of this publication.

Dated: March 28, 2002.
Thomas E. Hooven,
Associate Director for Administration, NICHD.

[FR Doc. 02-8329 Filed 4-4-02; 8:45 am]

BILLING CODE 4140-01-P